DEPARTMENT OF AGRICULTURE

Forest Service

Boundary Establishment for Black Butte National Wild and Scenic River, Including Portions of Cold Creek, Mendocino National Forest, Mendocino County, California

AGENCY: Forest Service, USDA.

ACTION: Notice of availability.

SUMMARY: In accordance with Section 3(b) of the Wild and Scenic Rivers Act, the USDA Forest Service, Washington Office, is transmitting the final boundary of the Black Butte National Wild and Scenic River, including portions of Cold Creek, to Congress.

FOR FURTHER INFORMATION CONTACT: Information may be obtained by contacting Mendocino National Forest Supervisor's Office, 825 N Humboldt Ave., Willows, CA 95988; (530) 934-3316.

SUPPLEMENTARY INFORMATION: The Black Butte Wild and Scenic River, including portions of Cold Creek, boundary is available for review at the following offices: USDA Forest Service, Yates Building, 14th and Independence Avenues SW, Washington, DC 20024; Pacific Southwest Region 1323 Club Drive, Vallejo, CA 94592; and Mendocino National Forest Supervisor's Office, 825 N Humboldt Ave., Willows, CA 95988.

The Northern California Coastal Wild Heritage Wilderness Act (Pub. L. 109-362) of October 17, 2006, designated the Black Butte River and portions of Cold Creek, California, as a National Wild and Scenic River, to be administered by the Secretary of Agriculture. As specified by law, the boundary will not be effective until 90-days after Congress receives the transmittal.

Dated: September 21, 2018.
Gregory C. Smith,
Acting Associate Deputy Chief, National Forest System.

[FR Doc. 2018-21163 Filed 9-27-18; 8:45 am]

BILLING CODE 3411-15-P